DEPARTMENT OF THE INTERIOR

Fish and Wildlife Service

[FWS-R3-ES-2025-N014 FXES11130300000-256-FF03E00000]

Endangered and Threatened Species; Receipt of Recovery Permit Applications

AGENCY: Fish and Wildlife Service, Interior.

ACTION: Notice of receipt of permit applications; request for comments.

SUMMARY: We, the U.S. Fish and Wildlife Service, have received applications for permits to conduct scientific research to promote conservation or other activities intended to enhance the propagation or survival of endangered or threatened species under the Endangered Species Act. We invite the public and local, State, Tribal, and Federal agencies to comment on these applications. Before issuing any of the requested permits, we will take into consideration any information that we receive during the public comment period.

DATES: We must receive your written comments on or before September 29, 2025.

ADDRESSES: Document availability and comment submission: Submit requests for copies of the applications and related documents, as well as any comments, by one of the following methods. All requests and comments should specify the applicant name(s) and application number(s) (e.g., ESXXXXXX; see table in SUPPLEMENTARY INFORMATION):

• Email (preferred method): permitsR3ES@fws.gov. Please refer to the respective application number (e.g., Application No. ESXXXXXX) in the subject line of your email message.

• U.S. Mail: Regional Director, Attn: Nathan Rathbun, U.S. Fish and Wildlife Service, Ecological Services, 5600 American Blvd. West, Suite 990, Bloomington, MN 55437-1458.

FOR FURTHER INFORMATION CONTACT: Nathan Rathbun, 612-713-5343 (phone); permitsR3ES@fws.gov (email). Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service, invite review and comment from the public and local, State, Tribal, and Federal agencies on applications we have received for permits to conduct certain activities with endangered and threatened species under section 10(a)(1)(A) of the Endangered Species Act of 1973, as amended (ESA; 16 U.S.C. 1539(c)). and our regulations in the Code of Federal Regulations (CFR) at 50 CFR part 17. Documents and other information submitted with the applications are available for review, subject to the requirements of the Privacy Act and the Freedom of Information Act.

Background

The ESA prohibits certain activities with endangered and threatened species unless authorized by a Federal permit. The ESA and our implementing regulations in part 17 of title 50 of the CFR provide for the issuance of such permits and require that we invite public comment before issuing permits for activities involving endangered species.

A recovery permit issued by us under section 10(a)(1)(A) of the ESA authorizes the permittee to conduct activities with endangered species for scientific purposes that promote recovery or for enhancement of propagation or survival of the species. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

The ESA requires that we invite public comment before issuing these permits. Accordingly, we invite local, State, Tribal, and Federal agencies and the public to submit written data, views, or arguments with respect to these applications. The comments and recommendations that will be most useful and likely to influence agency decisions are those supported by quantitative information or studies. Proposed activities in the following permit requests are for the recovery and enhancement of propagation or survival of the species in the wild.

Application No. | Applicant | Species | Location | Activity | Type of take | Permit action
ES75495D | Tip of the Mitt Watershed Council; Petoskey, MI | Hungerford's crawling water beetle (Brychius hungerfordi) | MI | Conduct presence/absence surveys, document habitat use, conduct population monitoring, and evaluate impacts | Capture, handle, collect non-intrusive measurements, release | Renew/Amend.
ESPER16985456 | Orchard, Hiltz, & McCliment, Inc.; Livonia, MI | Clubshell (Pleurobema clava), fanshell (Cyprogenia stegaria), longsolid (Fusconaia subrotunda), northern riffleshell (Epioblasma torulosa rangiana), pink mucket (Lampsilis abrupta), purple catspaw (Epioblasma obliquata obliquata), rabbitsfoot (Quadrula cylindrica cylindrica), rayed bean (Villosa fabalis), round hickorynut (Obovaria subrotunda), scaleshell (Leptodea leptedon), sheepnose (Plethobasus cyphyus), spectaclecase (Cumberlandia monodonta), snuffbox (Epioblasma triquetra), white catspaw (Epioblasma obliquata perobliqua), and winged mapleleaf (Quadrula fragosa) | MI, OH | Conduct presence/absence surveys, document habitat use, conduct population monitoring, and evaluate impacts | Capture, handle, collect non-intrusive measurements, relocate under special circumstances, release | New.
ESPER16990476 | Dortman Environmental LLC; Burtchville, MI | Northern riffleshell (Epioblasma torulosa rangiana), rayed bean (Villosa fabalis), round hickorynut (Obovaria subrotunda), snuffbox (Epioblasma triquetra) | MI | Conduct presence/absence surveys, document habitat use, conduct population monitoring, and evaluate impacts | Capture, handle, collect non-intrusive measurements, relocate under special circumstances, release | New.
ESPER17570050 | Bethanne Bruninga-Socolar; Reading, PA | Rusty patched bumble bee (Bombus affinis) | IL, WV | Conduct presence/absence surveys, document habitat use, conduct population monitoring, and evaluate impacts | Capture, handle, release | New.
ESPER17569283 | Nathan Patterson; Potosi, MO | Indiana bat (Myotis sodalis), northern long-eared bat (M. septentrionalis), gray bat (M. grisescens), and tricolored bat (Perimyotis subflavus) | MO, IN | Conduct presence/absence surveys, document habitat use, conduct population monitoring, and evaluate impacts | Capture, handle, harp trap, band, radiotelemetry, enter hibernacula | New.
ESPER18058452 | Ryan Rasmussen; Bloomfield, IA | Higgins' eye pearly mussel (Lampsilis higginsi), sheepnose (Plethobasus cyphyus), snuffbox (Epioblasma triquetra), spectaclecase (Cumberlandia monodonta), winged mapleleaf (Quadrula fragos) | IA, IL, MN, MO, WI | Conduct presence/absence surveys, document habitat use, conduct population monitoring, and evaluate impacts | Capture, handle, collect non-intrusive measurements, relocate under special circumstances, release | New.
ES049738 | Third Rock Consultants, LLC; Lexington, KY | Add new species—tri-colored Bat (Perimyotis subflavus), longsolid (Fusconaia subrotunda), round hickorynut (Obovaria subrotunda)—to existing authorized species: nine freshwater fish species, 50 freshwater mussel species, Indiana bat (Myotis sodalis), gray bat (M. grisescens), northern long-eared bat (M. septentrionalis), Ozark big-eared bat (Corynorhinus townsendii ingens), Virginia big-eared bat (C. t. virginianus), big sandy crayfish (Cambarus callainus), American burying beetle (Nicrophorus Americanus) | AL, AR, FL, GA, IL, IN, IA, KY, LA, MS, MI, MN, MO, NC, OH, PA, SC, TN, VA, WV, WI | Conduct presence/absence surveys, document habitat use, conduct population monitoring, and evaluate impacts | Capture, handle, collect non-intrusive measurements, relocate under special circumstances, release, conduct radiotelemetry, mist net, harp trap | Amend.
ES72093B | Rebecca Winterringer; Euclid, OH | Add new species—longsolid (Fusconaia subrotunda), round hickorynut (Obovaria subrotunda)—to existing 35 authorized freshwater mussel species | AL, AR, IL, IN, IA, KS, KY, LA, MD, MS, MI, MN, MO, NJ, NY, NC, OK, OH, PA, TN, VA, WV, WI | Conduct presence/absence surveys, document habitat use, conduct population monitoring, and evaluate impacts | Capture, handle, relocate, release | Renew and amend.
ES33467D | Aaron McAlexander; Unionville, IN | Indiana bat (Myotis sodalis), northern long-eared bat (M. septentrionalis), and gray bat (M. grisescens) | AL, AR, CT, DE, FL, GA, IL, IN, IA, KS, KY, LA, MD, MA, MI, MN, MS, MO, NE, NH, NJ, NY, NC, ND, OH, OK, PA, RI, SC, SD, TN, VT, VA, WV, WI, | Conduct presence/absence surveys, document habitat use, conduct population monitoring, and evaluate impacts | Capture with mist nets, handle, collect non-intrusive measurements, release | Renew.
ES33518D | Julia Aukland; Denver, CO | Dakota skipper (Hesperia dacotae) and Poweshiek skipperling (Oarisma poweshiek) | MN, ND, SD | Conduct presence/absence surveys, document habitat use, conduct population monitoring, and evaluate impacts | Capture, handle, collect non-intrusive measurements, release | Renew.
ESPER15379450 | Ashley Epstein; Knoxville,TN | Indiana bat (Myotis sodalis), northern long-eared bat (M. septentrionalis), gray bat (M. grisescens), and tricolored bat (Perimyotis subflavus) | AL, AR, CO, CT, DE, FL, GA, IL, IN, IA, KS, KY, LA, ME, MD, MA, MI, MN, MO, MS, MT, NE, NH, NJ, NY, NC, ND, OK, OH, PA, RI, SC, SD, TN, TX, VT, VA, WV, WI, WY | Conduct presence/absence surveys, document habitat use, conduct population monitoring, and evaluate impacts | Capture with mist nets, handle, collect non-intrusive measurements, band, radiotelemetry, release | New.
ES33374D | GEI Consultants of Michigan; Traverse City, MI | Add new species—11 freshwater mussel species, 7 plant species, eastern massasauga rattlesnake (Sistrurus catenatus), Hungerford's crawling water beetle (Brychius hungerfordi), and rusty-patched bumble bee (Bombus affinis)—to existing authorized species: clubshell (Pleurobema clava), northern riffleshell (Epioblasma torulosa rangiana), rayed bean (Villosa fabalis), snuffbox (Epioblasma triquetra) | Add new locations—IN, IL, OH, MN, TX, WI—to existing authorized locations: MI | Conduct presence/absence surveys, document habitat use, conduct population monitoring, and evaluate impacts | Add new activities—collect voucher specimens, relocate, relocate due to stranding, mark, tag—to existing authorized activities: capture, handle, release | Renew and amend.
ES12174D | Joshua Allen; Easton, KS | Add new species—tricolored bat (Perimyotis subflavus)—to existing authorized species: Indiana bat (Myotis sodalis), northern long-eared bat (M. septentrionalis), gray bat (M. grisescens) | AL, AR, CN, DE, FL, GA, IL, IN, IA, KS, KY, LA, ME, MD, MA, MI, MN, MS, MO, NH, NJ, NY, NC, OH, OK, PA, RI, SC, TN, VT, VA, WV, WI, WY | Conduct presence/absence surveys, document habitat use, conduct population monitoring, and evaluate impacts | Capture, handle, band, radiotelemetry, release | Amend and renew.
ESPER15397449 | Levi Webster; Sunbury, OH | Clubshell (Pleurobema clava), fanshell (Cyprogenia stegaria), northern riffleshell (Epioblasma torulosa rangiana), pink mucket (pearlymussel) (Lampsilis abrupta), purple cat's paw pearlymussel (Epioblasma obliquata obliquata), rayed bean (Villosa fabalis), sheepnose mussel (Plethobasus cyphyus), rabbitsfoot (Quadrula cylindrica cylindrica), snuffbox mussel (Epioblasma triquetra), white catspaw (pearlymussel) (Epioblasma obliquata perobliqua), round hickorynut (Obovaria subrotunda), longsolid (Fusconaia subrotunda) | OH | Conduct presence/absence surveys, document habitat use, conduct population monitoring, and evaluate impacts | Capture, handle, relocate due to stranding, salvage | New.
ESPER18535213 | Marissa Thalken; Aurora, CO | Indiana bat (Myotis sodalis), northern long-eared bat (M. septentrionalis), gray bat (M. grisescens), and tricolored bat (Perimyotis subflavus) | AL, AR, CO, CT, DE, DC, FL, GA, IL, IA, IN, KS, KY, LA, ME, MD, MA, MI, MN, MS, MO, MT, NE, NH, NJ, NM, NY, NC, ND, OH, OK, PA, RI, SC, SD, TN, TX,VT, VA, WV, WI, WY | Conduct presence/absence surveys, document habitat use, conduct population monitoring, and evaluate impacts | Capture with mist nets/harp traps, radio telemetry, banding, collect non-intrusive measurements, release | New.
ESPER18694675 | Jane DeClerck; Mount Healthy, OH | Higgins' eye pearly mussel (Lampsilis higginsi), sheepnose (Plethobasus cyphyus), snuffbox (Epioblasma triquetra), spectaclecase (Cumberlandia monodonta), rayed bean (Villosa fabalis), round hickorynut (Obovaria subrotunda), and pink mucket (Lampsilis abrupta) | IA, IL, IN, MI, MN, MO, OH, WI | Conduct presence/absence surveys, document habitat use, conduct population monitoring, and evaluate impacts | Capture, handle, relocate due to stranding, salvage | New.
ES40247C | Minnesota Department of Natural Resources; Saint Paul, MN | Rusty patched bumble bee (Bombus affinis) | MN | Conduct presence/absence surveys, document habitat use, conduct population monitoring, and evaluate impacts | Add new activities—bio-sample, excavate nests, mark—to existing authorized activities: capture, handle, release, tarsal clip | Amend.

Public Availability of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. Moreover, all submissions from organizations or businesses, and from individuals identifying themselves as representatives or officials of organizations or businesses, will be made available for public disclosure in their entirety.

Next Steps

If we decide to issue permits to any of the applicants listed in this notice, we will publish a notice in the Federal Register.

Authority

We publish this notice under section 10(c) of the Endangered Species Act of 1973, as amended (16 U.S.C. 1539(c)).

Sean Marsan,
Acting—Assistant Regional Director, Ecological Service, Midwest Region.

[FR Doc. 2025-16574 Filed 8-28-25; 8:45 am]

BILLING CODE 4333-15-P